FEDERAL COMMUNICATIONS COMMISSION

47 CFR Part 73

[DA 01-2846; MM Docket No. 00-173; RM-9964, RM-10328]

Radio Broadcasting Services; Burgin and Science Hill, KY

AGENCY: Federal Communications Commission

ACTION: Final rule.

SUMMARY: At the request of Vernon R. Baldwin this document allots Channel 290A to Burgin, Kentucky. At the request of Pulaski County Broadcasting, this document also allots Channel 291A to Science Hill, Kentucky. See 65 FR 59164, published October 4, 2000. The reference coordinates for the Channel 290A allotment at Burgin, Kentucky, are 37-48-37 and 84-41-30. The reference coordinates for the Channel 291A allotment at Science Hill, Kentucky, are 37-10-36 and 84-29-10.

DATES: Effective January 22, 2002.

FOR FURTHER INFORMATION CONTACT: Robert Hayne, Mass Media Bureau (202) 418-2177.

SUPPLEMENTARY INFORMATION: This is a synopsis of the Commission's Report and Order in MM Docket No. 00-173, adopted December 5, 2001, and released December 7, 2001. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC 20554, telephone 202-863-2893, facsimile 202-863-2898, or via e-mail qualexint@aol.com

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Kentucky, is amended by adding Burgin, Channel 290A and by adding Science Hill, Channel 291A.

Federal Communications Commission.
John A. Karousos,
Chief, Allocations Branch, Policy and Rules Division, Mass Media Bureau.

[FR Doc. 01-31830 Filed 12-26-01; 8:45 am]

BILLING CODE 6712-01-P